DEPARTMENT OF TRANSPORTATION

[Docket No. PHMSA-2021-0085]

Pipeline Safety: Information Collection Activities—Revision to the National Pipeline Mapping System Information Collection

AGENCY: Pipeline and Hazardous Materials Safety Administration (PHMSA), DOT.

ACTION: Notice and request for comments.

SUMMARY: In compliance with the Paperwork Reduction Act of 1995 this notice announces that the information collection request abstracted below is being forwarded to the Office of Management and Budget (OMB) for review and comment. A Federal Register notice with a 60-day comment period soliciting comments on the information collection was published on March 11, 2022.

DATES: Interested persons are invited to submit comments on or before September 14, 2022.

ADDRESSES: The public is invited to submit comments regarding this information collection request, including suggestions for reducing the burden, to the Office of Management and Budget, Attention: Desk Officer for the Office of the Secretary of Transportation, 725 17th Street NW, Washington, DC 20503. Comments can also be submitted electronically at www.reginfo.gov/public/do/PRAMain.

FOR FURTHER INFORMATION CONTACT: Angela Hill by telephone at 202-680-2034, by email at angela.dow@dot.gov, or by mail at DOT, PHMSA, 1200 New Jersey Avenue SE, PHP-30, Washington, DC 20590-0001.

SUPPLEMENTARY INFORMATION:

I. Background

Title 5, Code of Regulations (CFR) section 1320.8(d), requires PHMSA to provide interested members of the public and affected agencies the opportunity to comment on information collection and recordkeeping requests before they are submitted to OMB for approval. In accordance with this regulation, on March 11, 2022, (87 FR 14097) PHMSA published a Federal Register notice with a 60-day comment period soliciting comments on its plan to request a revision to the National Pipeline Mapping System information collection that is currently approved under OMB Control Number 2137-0596. PHMSA received no comments in response to the proposed revision to this information collection request. This notice announces that PHMSA will submit the information collection revision request abstracted below to OMB for approval.

The following information is provided for this information collection: (1) Title of the information collection; (2) OMB control number; (3) Current expiration date; (4) Type of request; (5) Abstract of the information collection activity; (6) Description of affected public; (7) Estimate of total annual reporting and recordkeeping burden; and (8) Frequency of collection.

PHMSA will request a three-year term of approval for this information collection. PHMSA requests comments on the following information:

1. Title: National Pipeline Mapping System Program.

OMB Control Number: 2137-0596.

Expiration Date: 1/31/2023.

Type of Request: Revision of a previously approved information collection.

Abstract: The Pipeline Safety Improvement Act of 2002 (Pub. L. 107-355), 49 U.S.C. 60132, “National Pipeline Mapping System,” requires the operator of a pipeline facility (except distribution lines and gathering lines) to provide information to PHMSA. Each operator is required to submit geospatial data appropriate for use in the National Pipeline Mapping System or data in a format that can be readily converted to geospatial data; the name and address of the person with primary operational control (to be known as its operator); and a means for a member of the public to contact the operator for additional information about the pipeline facilities it operates. Operators will submit the requested data elements once and make annual updates to the data if necessary. These data elements strengthen the effectiveness of PHMSA's risk rankings and evaluations, which are used as a factor in determining pipeline inspection priority and frequency; allow for more effective assistance to emergency responders by providing them with a more reliable, complete data set of pipelines and facilities; and provide better support to PHMSA's inspectors by providing more accurate pipeline locations and additional pipeline-related geospatial data that can be linked to tabular data in PHMSA's inspection database.

This revision will require operators to submit geospatial data for moderate consequence areas (MCAs), as defined in 49 CFR part 192, and data based on the applicability of 49 CFR 192.710 assessments outside of high consequence areas. This revision would also require operators to submit the data element “specified minimum yield strength” in pounds per square inch gauge in place of submitting data on pipe grade. PHMSA does not expect operators to incur additional burden due to the inclusion of these two new elements. PHMSA believes that the annual burden allotted for this information collection is sufficient for operators to include the newly requested data elements. A detailed breakdown of the estimated burden for this information collection can be found at www.regulations.gov.

Respondents: Operators of gas transmission, hazardous liquid, or liquefied natural gas pipeline facilities.

Annual Reporting and Recordkeeping Burden:

Estimated Number of Responses: 1,346 responses.

Estimated Total Annual Burden: 162,208 hours.

Frequency of Collection: Annually.

Comments are invited on:

(a) The need for the renewal and revision of this collection of information for the proper performance of the functions of the Agency, including whether the information will have practical utility;

(b) The accuracy of the Agency's estimate of the burden of the proposed collection of information,

(c) Ways to enhance the quality, utility, and clarity of the information to be collected; and

(d) Ways to minimize the burden of the collection of information on those who are required to respond, including the use of appropriate automated, electronic, mechanical, or other technological collection techniques.

Authority: The Paperwork Reduction Act of 1995; 44 U.S.C. chapter 35, as amended; and 49 CFR 1.48.

Issued in Washington, DC, on August 8, 2022, under authority delegated in 49 CFR 1.97.
Alan K. Mayberry,
Associate Administrator for Pipeline Safety.

[FR Doc. 2022-17459 Filed 8-12-22; 8:45 am]

BILLING CODE 4910-60-P